DEPARTMENT OF THE INTERIOR

Fish and Wildlife Service

Publishing the Priority List, and Projects Approved, With Qualifiers, Under the Multistate Conservation Grant Program Submitted to the Secretary by the International Association of Fish and Wildlife Agencies

AGENCY: Fish and Wildlife Service, Interior.

ACTION: Notice—Multistate Conservation Grant Program.

SUMMARY: The Service is publishing the priority lists for the Multistate Conservation Grant Program submitted to the Secretary of the Interior by the International Association of Fish and Wildlife Agencies. This notice is required by the Wildlife and Sport Fish Restoration Programs Improvement Act of 2000. Grants will be made from this list.

DATES: This notice is effective April 24, 2001.

ADDRESSES: Copies of proposals may be viewed at the U.S. Fish and Wildlife Service offices at 4401 North Fairfax Drive, Suite 140, Arlington, Virginia 22203 daily until May 24, 2001.

FOR FURTHER INFORMATION CONTACT: Kris E. LaMontagne, Chief, Division of Federal Aid, U.S. Fish and Wildlife Service, 4401 North Fairfax Drive, Suite 140, Arlington, Virginia 22203, (703) 358-2156.

SUPPLEMENTARY INFORMATION: The Wildlife and Sport Fish Restoration Programs Improvement Act of 2000 (Pub. L. 106-408) established a Multi-State Conservation Grant Program within the Federal Aid in Wildlife Restoration and Federal Aid in Sport Fish Restoration Acts, commonly known as the Pittman-Robertson and Dingell-Johnson/Wallop-Breaux Acts, respectively. The program authorizes grants of up to $3 million annually from funds available under each Act, for a total of up to $6 million annually. The grants are to be made from a list of recommendations submitted by the International Association of Fish and Wildlife Agencies, representing the State fish and wildlife agencies. The Director, exercising the authority of the Secretary, need not fund recommended projects, but may not fund projects which are not recommended. The Acting Director of the Fish and Wildlife Service approved the list, with qualifiers, on January 31, 2001.

To be eligible for consideration, a project must benefit fish and/or wildlife conservation in at least 26 States, a majority of the States in a Fish and Wildlife Service Region, or a regional association of State fish and wildlife agencies. Grants may by made to a State or group of States, to non-governmental organizations, and, solely for carrying out the National Survey of Fishing, Hunting and Wildlife-Associated Recreation, to the Fish and Wildlife Service.

The priority lists of projects submitted by the IAFWA:

Federal Aid in Wildlife Restoration Act Proposals
[FY-2001]
1. National Survey of Hunting Fishing and Wildlife-Associated Recreation | $1,395,348
2. Management Assistance Team for State Fish and Wildlife Agencies | 251,248
3. The Fish and Wildlife Reference Service | 157,500
4. Outreach Project: Improving National Wildlife Capture Programs and Implementing Best Management Practices | 327,376
5. Workshops on Integrated Migratory Bird Management | 298,350
6. Wildlife Law News Quarterly | 5,000
7. Automated Wildlife Data Systems Project Coordination | 96,525
8. Factors Relating to Hunting and Fishing Initiation, Participation, and Retention Among the Nation's Youth | 168,360
9. Assisting States in Reaching Underrepresented Groups, Specifically Ethnic Minorities and Women with Disabilities through the Becoming an Outdoors-Woman Program | 139,730
10. Science and Civics: Sustaining Wildlife, Involving High School Students and Addressing Wildlife Needs | 27,358
11. Step Outside | 89,950
| 2,956,745

Federal Aid in Sport Fish Restoration Act Proposals
[FY-2001]
1. National Survey of Hunting Fishing and Wildlife-Associated Recreation | $1,395,348
2. Management Assistance to State Fish and Wildlife Agencies | 251,248
3. The Fish and Wildlife Reference Service | 157,500
4. The Collection of Pivotal Field Efficacy Data to Support a New Animal Drug Approval for the Use of Florfenicol (Aquaflor™) to Control Mortality Caused by Bacterial Pathogens in Cultured Fish | 216,775
5. Analytical Support of Pivotal Efficacy Trials for Florfenicol Use in Public Fisheries | 36,689
6. Strengthen and Expand the National “Hooked on Fishing-Not on Drugs” Program | 150,125
7. Wildlife Law News Quarterly | 5,000
8. Automated Wildlife Data Systems Project Coordination | 96,525
9. Factors Relating to Hunting and Fishing Initiation, Participation, and Retention Among the Nation's Youth | 168,360
10. Assisting States in Reaching Underrepresented Groups, Specifically Ethnic Minorities and Women with Disabilities through the Becoming an Outdoors-Woman Program | 139,730
11. Science and Civics: Sustaining Wildlife, Involving High School Students and Addressing Wildlife Needs | 27,358
12. Step Outside | 89,950
| 2,734,608

Dated: February 5, 2001.
Marshall P. Jones, Jr.,
Acting Director, U.S. Fish and Wildlife Service.

[FR Doc. 01-10048 Filed 4-23-01; 8:45 am]

BILLING CODE 4310-55-M